ENVIRONMENTAL PROTECTION AGENCY

[EPA-HQ-OECA-2013-0347; FRL-9972-72-OEI]

Information Collection Request Submitted to OMB for Review and Approval; Comment Request; NESHAP for Epoxy Resin and Non-Nylon Polyamide Production (Renewal)

AGENCY: Environmental Protection Agency (EPA).

ACTION: Notice.

SUMMARY: The Environmental Protection Agency has submitted an information collection request (ICR), “NESHAP for Epoxy Resin and Non-Nylon Polyamide Production” (EPA ICR No. 1681.09, OMB Control No. 2060-0290), to the Office of Management and Budget (OMB) for review and approval in accordance with the Paperwork Reduction Act. This is a proposed extension of the ICR, which is currently approved through April 30, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently-valid OMB control number.

DATES: Additional comments may be submitted on or before March 28, 2018.

ADDRESSES: Submit your comments, referencing Docket ID Number EPA-HQ-OECA-2013-0347, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The affected entities are subject to the General Provisions of the NESHAP (40 CFR part 63, subpart A), and any changes, or additions to the Provisions are specified at 40 CFR part 63, subpart W. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. Sources are owners/operators of facilities which produce polymers and resins from epichlorohydrin and sources which manufacture epichlorohydrin-modified non-nylon polyamide resins. EPA and delegated states will use the information identify new, modified, reconstructed, or existing sources, or process changes which may affect the source's status and to ensure that affected sources are meeting the standards.

Form numbers: None.

Respondents/affected entities: Epoxy resin and non-nylon polyamide production facilities.

Respondent's obligation to respond: Mandatory (40 CFR part 63, subpart W).

Estimated number of respondents: 7 (total).

Frequency of response: Initially, occasionally, quarterly and semiannually.

Total estimated burden: 3,940 hours (per year). Burden is defined at 5 CFR 1320.3(b).

Total estimated cost: $424,000 (per year), which includes $9,000 in either annualized capital or operation & maintenance costs.

Changes in the estimates: There is a small decrease in the respondent labor hours in this ICR compared to the previous ICR. This is due to two considerations: (1) There was a duplicative recordkeeping line item for SSM periods in the previous renewal; and (2) records of initial performance test, performance evaluations, and initial notifications have passed the five-year record retention period and are no longer required. These burden activities have been removed in this ICR.

Courtney Kerwin,
Director, Regulatory Support Division.

[FR Doc. 2018-03793 Filed 2-23-18; 8:45 am]

BILLING CODE 6560-50-P